FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency makes the final determinations listed below of modified base flood elevations for each community listed. These modified elevations have been published in newspapers of local circulation and ninety (90) days have elapsed since that publication. The Acting Executive Associate Director has resolved any appeals resulting from this notification.

The modified base flood elevations are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act

This rule is categorically excluded from the requirements of 44 CFR part 10, Environmental Consideration. No environmental impact assessment has been prepared.

Regulatory Flexibility Act

The Acting Executive Associate Director, Mitigation Directorate, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Florida: Sarasota (FEMA Docket No. D-7501) | Unincorporated Areas | April 28, 2000, May 5, 2000, Sarasota Herald-Tribune | Mr. Jim Ley, Sarasota County Administrator, 1660 Ringling Boulevard, 2nd Floor, Sarasota, Florida 34236 | Apr. 21, 2000 | 125144 D
Georgia: Cherokee (FEMA Docket No. D-7501) | Unincorporated Areas | May 17, 2000, May 24, 2000, Cherokee Tribune | Ms. Emily Lemcke, Chairwoman of the Cherokee County Board of Commissioners, 90 North Street, Suite 310, Canton, Georgia 30114 | Aug. 22, 2000 | 130424 C
Illinois:
McHenry (FEMA Docket No. D-7503) | Unincorporated Areas | July 14, 2000, July 21, 2000, The Northwest Herald | Mr. Michael Tryon, Chairperson, McHenry County Board, McHenry County Government Center, 2200 North Seminary Avenue, Woodstock, Illinois 60098 | June 29, 2000 | 170732 C
Madison (FEMA Docket No. 7302) | City of Wood River | January 7, 2000, January 14, 2000, The Telegraph | The Honorable Lon A. Smith, Mayor of the City of Wood River, 111 North Wood River Avenue, Wood River, Illinois 62095-1938 | Apr. 12, 2000 | 170451 C
Michigan: Macomb | City of Sterling Heights | September 14, 2000, September 21, 2000, The Macomb Daily | The Honorable Richard J. Notte, Mayor of the City of Sterling Heights, 40555 Utica Road, P.O. Box 8009, Sterling Heights, Michigan 48311-8009 | Sept. 6, 2000 | 260128 E
Ohio: Cuyahoga (FEMA Docket No. D-7503) | City of Highland Heights | June 22, 2000, June 29, 2000, The Plain Dealer | The Honorable Francine G. Hogg, Mayor of the City of Highland Heights, 5827 Highland Road, Highland Heights, Ohio 44143 | Aug. 28, 2000 | 390110 D
Pennsylvania: Allegheny (FEMA Docket No. D-7505) | Municipality of Monroeville | August 29, 2000, Tribune-Review | Mr. Marshall W. Bond, Municipality of Monroeville Manager, 2700 Monroeville Boulevard, Monroeville, Pennsylvania 15146-2388 | Sept. 22, 2000 | 420054 E

(Catalog of Federal Domestic Assistance No. 83.100, “Flood Insurance”)
Dated: May 3, 2001.
Margaret E. Lawless,
Acting Executive Associate Director for Mitigation.

[FR Doc. 01-12030 Filed 5-11-01; 8:45 am]

BILLING CODE 6718-04-P